DEPARTMENT OF TRANSPORTATION

Federal Aviation Administration

RTCA Special Committee 197; Rechargable and Starting Batteries

Pursuant to section 10(a)(2) of the Federal Advisory Committee Act (Pub. L. 92-463, 5 U.S.C., Appendix 2), notice is hereby given for Special Committee (SC)-197 meeting to be held April 10-11, 2001, starting at 9:00 a.m. The meeting will held RTCA Inc., 1140 Connecticut Ave., NW., Suite 1020, Washington, DC 20036.

At the request of the Federal Aviation Administration, RTCA has established a new Special Committee (SC-197) to develop Minimum Operational Performance Standards (MOPS) for the Construction, Performance, and Testing of Rechargable and Starting Batteries as Power Sources for Equipment Installed in Aircraft. The FAA would then consider adopting the RTCA standard by reference in a Technical Standard Order.

The agenda will include: (1) Welcome and Introductory Remarks; (2) Review Meeting Agenda; (3) Review of RTCA and Federal Advisory Committee Procedures; (4) Review FAA Aircraft Battery Requirements; (5) Review SC-197 Terms of Reference; (6) Identify Goals/Develop Work/Plans Examine Milestones; (7) Organize Work Groups/Determine Leadership/Establish Interim Milestones; (8) Announce Work Group Leaders/Assign Tasks and Work Groups/Begin Work Group Breakout Sessions; April 11: (9) Working Groups meetings; Plenary Session: (10) Working Groups Reports; (11) Proposed Schedules for Subsequent Meetings; (12) Other Business; (13) Establish Agenda for Next Meeting; (14) Date and Location of Next Meeting; (15) Closing.

Attendance is open to the interested public but limited to space availability. With the approval of the chairman, members of the public may present oral statements at the meeting. Persons wishing to present statements or obtain information should contact the RTCA Secretariat, 1140 Connecticut Avenue, NW., Suite 1020, Washington, DC, 20036; (202) 833-9339 (phone); (202) 833-9434 (fax); or http://www.rtca.org (web site). Members of the public may present a written statement to the committee at any time.

Issued in Washington, DC, on March 12, 2001.
Janice L. Peters,
Designated Official.

[FR Doc. 01-6695 Filed 3-16-01; 8:45 am]

BILLING CODE 4910-13-M